DEPARTMENT OF DEFENSE

Department of the Army

Mandatory Provision of Increased Firearms Security by Department of Defense Personal Property Storage Transportation Service Providers (TSP's)/Contractors

AGENCY: Department of the Army, DOD.

ACTION: Notice.

SUMMARY: The Military Surface Deployment and Distribution Command (SDDC), as the Program Manager for Department of Defense (DOD) Personal Property Non-Temporary Storage Program, is informing the NTS Transportation Service Provider (TSP)/contractor community of the mandatory requirement for increased Firearms Security in the DOD Personal Property Non-Temporary Storage Program. All shipments awarded or already in storage prior to the effective date of the contract modification would not be affected by this notice. Changes to Appendix J Tender of Service (TOS) Personal Property Non-Temporary Storage Section C are denoted by italics.

DATES: Effective Date: October 1, 2007.

ADDRESSES: Requests for additional information may be sent by e-mail to Northeastrsmo@sddc.army.mil; or by courier to Department of Army, HQ SDDC Northeast RSMO, ATTN: SDPP-PA-N, Military Surface Deployment and Building 1107, Ft. Monmouth, NJ 07703-5045.

SUPPLEMENTARY INFORMATION: Appendix J Tender of Service (TOS) Personal Property Non-Temporary Storage Section C—Technical Provisions. Currently Section C-2a-PRE MOVE SURVEY, of the NTS Tender of Service reads as follows:

(1) I agree to perform a pre-move survey on non-temporary storage lots estimated at 3,000 pounds or more, at origin points within a 50-mile radius of the warehouse facility designated for storage. I understand this requirement will apply to only those lots on which I am provided a minimum of 5 working days advance notice of the pickup date requirement.

(2) I agree that if a telephone number is provided five (5) days in advance of pickup, I will make a telephone contact pre-move survey for non-temporary storage lots of lesser weights than indicated above, or for lots with origin points exceeding 50 miles of the warehouse facility designated for storage.

The following paragraph (3) will be added to C-2a of the NTS Tender of Service—PRE MOVE SURVEY.

(3) Whenever a pre-move survey is conducted and firearm(s) are to be stored, the TSP will inform the service member that the use of trigger locks will assist as a safety and security measure. The use of locks is not mandatory.

Under paragraph C-3m FIREARMS in the NTS TOS, sub paragraphs (1) and (2) will be added to paragraph C-3m. Sub paragraphs (1) and (2) are listed respectively.

(1) As a means of verifying that the firearm(s) were placed into storage in accordance with the TOS and DTR Part IV, a company official shall verify that the firearm(s) were received at a warehouse and placed into storage. The official shall submit written certification to the local ITO listing the firearm(s) by make, model, serial number, and caliber or gauge within 72 hours of shipment arriving at the warehouse indicating that the firearm(s) were received at the warehouse and placed into storage. A copy of this certification shall be placed in member's folder.

(2) Upon noticing a missing firearm(s), the NTS-TSP shall immediately notify the Regional Storage Management Office (RSMO) of the occurrence in accordance with C-7(d). NTS-TSPs may be placed in an ineligible status by the Regional Program Management Office for each incident. If there are repeated occurrences of this nature, this may be cause for permanent disqualification from the NTS program.

Costs: Upon implementation of this change no additional cost will affect the NTS Transportation Service Provider (TSP).

Regulation Flexibility Act

This action is not considered rule making within the meaning of Regulatory Flexibility Act, 5 U.S.C. 601-612.

Paperwork Reduction Act

The Paperwork Reduction Act, 44 U.S.C. 3051 et seq., does not apply because no information collection or recordkeeping requirements are imposed on contractors, offerors or members of the public.

Steven L. Amato,
Col, USAF, DCS, Passenger and Personal Property.

[FR Doc. 07-2923 Filed 6-12-07; 8:45 am]

BILLING CODE 3710-08-M